SMALL BUSINESS ADMINISTRATION

Small Business Size Standards: Waiver of the Nonmanufacturer Rule

AGENCY: U.S. Small Business Administration.

ACTION: Notice of intent to waive the Nonmanufacturer Rule for Control Cable and Conductors; Trailers and Heavy Duty Truck Tractors; and Line Hardware (Insulator Strings) Manufacturing.

SUMMARY: The U.S. Small Business Administration (SBA) is considering granting a waiver of the Nonmanufacturer Rule for Control Cable and Conductors, Trailers and Heavy Duty Truck Tractors, and Line Hardware (Insulator Strings) Manufacturing. According to a request, no small business manufacturers supply these classes of product to the Federal government. If granted, the waiver would allow otherwise qualified regular dealers to supply the products of any manufacturer on a Federal contract set aside for small businesses, service-disabled veteran-owned small businesses, or participants in the SBA's 8(a) Business Development Program.

DATES: Comments and source information must be submitted by October 27, 2008.

ADDRESSES: You may submit comments and source information to Edith G. Butler, Program Analyst, Small Business Administration, Office of Government Contracting, 409 3rd Street, SW., Suite 8800, Washington, DC 20416.

FOR FURTHER INFORMATION CONTACT: Ms. Edith G. Butler, by telephone at (202) 619-0422; by FAX at (202) 481-1788; or by e-mail at edith.butler@sba.gov.

SUPPLEMENTARY INFORMATION: Section 8(a)(17) of the Small Business Act (Act), and 15 U.S.C. 637(a)(17), require SBA's implementing regulations that recipients of Federal contracts set aside for small businesses, service-disabled veteran-owned small businesses, or participants in the SBA's 8(a) Business Development Program provide the product of a small business manufacturer or processor, if the recipient is other than the actual manufacturer or processor of the product. This requirement is commonly referred to as the Nonmanufacturer Rule. The SBA's regulations imposing this requirement are found at 13 CFR 121.406(b), 125.15(c). Section 8(a)(17)(b)(iv) of the Act authorizes SBA to waive the Nonmanufacturer Rule for any “class of products” for which there are no small business manufacturers or processors available to participate in the Federal market.

As implemented in SBA's regulations at 13 CFR 21.1202(c), in order to be considered available to participate in the Federal market for a class of products, a small business manufacturer must have submitted a proposal for a contract solicitation or received a contract from the Federal government within the last 24 months. The SBA defines “class of products” based on a six digit coding system. The coding system is the Office of Management and Budget North American Industry Classification System (NAICS). In addition, SBA uses product service codes to identify particular products within the NAICS code to which a waiver would apply.

The SBA is currently processing a request to waive the Nonmanufacturer Rule for Control Cable and Conductors, North American Industry Classification System (NAICS) code 335931 product service code 6145; Trailers and Heavy Duty Truck Tractors, NAICS code 333924 product service code 2330; and Line Hardware (Insulator Strings), NAICS code 335932 product service code 5975.

The public is invited to comment or provide source information to SBA on the proposed waivers of the Nonmanufacturer Rule for these classes of products codes within 15 days after date of publication in the Federal Register.

Dated: October 3, 2008.
Karen C. Hontz,
Director for Government Contracting.

[FR Doc. E8-24103 Filed 10-9-08; 8:45 am]

BILLING CODE 8025-01-P